SURFACE TRANSPORTATION BOARD

[Docket No. FD 36476]

RYAL, LLC—Modified Certificate of Public Convenience and Necessity

RYAL, LLC (RYAL), a noncarrier, has filed a notice for a modified certificate of public convenience and necessity under 49 CFR part 1150 subpart C—Modified Certificate of Public Convenience and Necessity, for RYAL to lease and operate over an approximately 26-mile rail line owned by the Port of Royal Slope (the Port), a Washington State municipal corporation, which (1) originates at milepost 1989.06, near Othello, Adams County, Wash., and continues west for 20.44 miles to milepost 2009, at Royal City Junction, Grant County, Wash.; and (2) proceeds north a distance of 5.2 miles, terminating at an industrial siding at milepost 5.2 near Royal City, Grant County, Wash. (the Line).¹

¹ The notice indicates that RYAL is wholly owned by Paul Didelius (Didelius), an individual and noncarrier. In a related proceeding, Didelius filed a verified notice of exemption to continue in control of RYAL upon its becoming a Class III carrier. See Didelius—Continuance in Control Exemption—RYAL, LLC, FD 36477 (STB served January 28, 2021).

RYAL states that the Line was authorized for abandonment by a decision of the Interstate Commerce Commission in Docket No. AB 7 (Sub-No. 86) served on January 30, 1980, but the abandonment was not consummated. According to RYAL, the Line was sold to the Port in 1982 for continued rail service ² and was most recently leased to WRL, LLC (WRL), pursuant to a modified rail certificate. (Notice 1, 3-4.) See WRL, LLC—Modified Rail Certificate of Pub. Convenience & Necessity—Adams & Grant Cntys., Wash., FD 36002 (STB served June 3, 2016).

² RYAL also states that the Line “came under the control” of Sunfresh, Inc., the guarantor of a Federal Railroad Administration loan upon which the Port defaulted, in 1992; was purchased by the Washington State Department of Transportation in 1993; and was reacquired by the Port in 2015. (Notice 3-4.)

According to the notice, RYAL and the Port have entered into an Operating Lease Agreement, dated December 17, 2020. Furthermore, RYAL states that the Port has agreed to accept RYAL's assumption of WRL's lease, to be effective upon the renewal of the lease on February 12, 2021. (Notice 4.)

The Line qualifies for a modified certificate of public convenience and necessity. See Common Carrier Status of States, State Agencies & Instrumentalities & Pol. Subdivs., FD 28990F (ICC served July 16, 1981); 49 CFR 1150.22. RYAL states that no subsidy is involved and that there will be no preconditions that shippers must meet to receive service. (Notice 5.) RYAL's notice also includes a certificate of liability insurance coverage.³ (Notice Ex. D.)

³ On January 21, 2021, RYAL filed a supplemental proof of insurance.

This notice will be served on the Association of American Railroads (Car Service Division), as agent for all railroads subscribing to the car-service and car-hire agreement, at 425 Third Street SW, Suite 1000, Washington, DC 20024; and on the American Short Line and Regional Railroad Association at 50 F Street NW, Suite 500, Washington, DC 20001.

Board decisions and notices are available at www.stb.gov.

Decided: February 5, 2021.
By the Board, Allison C. Davis, Director, Office of Proceedings.
Jeffrey Herzig,
Clearance Clerk.

[FR Doc. 2021-02766 Filed 2-9-21; 8:45 am]

BILLING CODE 4915-01-P